Title 3—

The President

Proclamation 10880 of January 2, 2025

Amending Proclamation 8336 To Read, “Establishment of the Pacific Islands Heritage Marine National Monument” and Amending Proclamation 9173 To Read, “Pacific Islands Heritage Marine National Monument Expansion”

By the President of the United States of America

A Proclamation

WHEREAS, Proclamation 8336 of January 6, 2009, established the Pacific Remote Islands Marine National Monument (Monument); and

WHEREAS, Proclamation 9173 of September 25, 2014, established the Pacific Remote Islands Marine National Monument Expansion (Monument Expansion);

NOW, THEREFORE, I, JOSEPH R. BIDEN JR., President of the United States of America, by the authority vested in me by the Constitution and the laws of the United States, including section 320301 of title 54, United States Code, do amend Proclamation 8336 and Proclamation 9173 for the purposes of updating the name of the Monument and the Monument Expansion to recognize the connection of these areas with the cultural heritage of the Indigenous Peoples and communities of the Pacific Islands, and of making the following conforming changes and corrections:

Section 1. The title of Proclamation 8336 is amended to read, “Establishment of the Pacific Islands Heritage Marine National Monument.”

Sec. 2. The title of Proclamation 9173 is amended to read, “Pacific Islands Heritage Marine National Monument Expansion.”

Sec. 3. The phrase “Pacific Remote Islands Marine National Monument” is amended to read, “Pacific Islands Heritage Marine National Monument,” wherever it appears in Proclamation 8336 and Proclamation 9173.

Sec. 4. The titles of the maps of the Monument accompanying Proclamation 8336 are amended to read, “Pacific Islands Heritage Marine National Monument.”

Sec. 5. The titles of the maps of the Monument Expansion accompanying Proclamation 9173 are amended to read, “Pacific Islands Heritage Marine National Monument Expansion.”

IN WITNESS WHEREOF, I have hereunto set my hand this second day of January, in the year of our Lord two thousand twenty-five, and of the Independence of the United States of America the two hundred and forty-ninth.

[FR Doc. 2025-00649

Filed 1-10-25; 8:45 am]

Billing code 3395-F4-P